DEPARTMENT OF COMMERCE

International Trade Administration

[A-570-846]

Brake Rotors From the People's Republic of China: Revocation of Antidumping Duty Order Pursuant to Second Five-Year (Sunset) Review

AGENCY: Import Administration, International Trade Administration, Department of Commerce.

SUMMARY: As a result of the determination by the United States International Trade Commission (“ITC”) that revocation of the existing antidumping duty (“AD”) order on brake rotors from the People's Republic of China (“PRC”) would not be likely to lead to continuation or recurrence of material injury to an industry in the United States within a reasonably foreseeable time, the Department of Commerce (the “Department”) is publishing this notice of revocation of the AD order.

DATES: Effective Date: June 25, 2008.

FOR FURTHER INFORMATION CONTACT: Frances Veith or Juanita Chen, AD/CVD Operations, Import Administration, International Trade Administration, U.S. Department of Commerce, 14th Street and Constitution Avenue, NW., Washington, DC 20230; telephone: 202-482-4295 and 202-482-1904, respectively.

SUPPLEMENTARY INFORMATION:

Background

On April 17, 1997, the Department published the AD order on brake rotors from the PRC.¹ On July 2, 2007, the Department published the notice of initiation of the sunset review of the AD duty order on brake rotors from the PRC pursuant to section 751(c) of the Tariff Act of 1930, as amended (“the Act”). See Initiation of Five-Year (“Sunset”) Reviews, 72 FR 35968 (July 2, 2007) (“Initiation Notice”). As a result of its review, the Department found that revocation of the AD order would be likely to lead to continuation or recurrence of dumping and notified the ITC of the margins likely to prevail were the order revoked. See Brake Rotors from the People's Republic of China: Notice of Final Results of Expedited Second Sunset Review of Antidumping Duty Order, 73 FR 1319 (January 8, 2008) (“Brake Rotors Final”).

¹ See Notice of Antidumping Duty Order: Brake Rotors from the People's Republic of China, 62 FR 18740 (April 17, 1997).

On May 29, 2008, the ITC determined, pursuant to section 751(c) of the Act, that revocation of the AD order on brake rotors from the PRC would not be likely to lead to continuation or recurrence of material injury to an industry in the United States within a reasonably foreseeable time. The ITC notified the Department on June 12, 2008, and published its decision on June 18, 2008. See Brake Rotors From China: Investigation No. 731-TA-744 (Second Review), 73 FR 34790 (June 18, 2008) and ITC Publication 4009 Inv. No. 731-TA-744 (Second Review) (June 2008).

Scope of the Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in this order are not certified by OEM producers of vehicles sold in the United States. The scope also includes composite brake rotors that are made of gray cast iron, which contain a steel plate, but otherwise meet the above criteria. Excluded from the scope of this order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).²

² In a 2007 scope ruling, the Department determined that brake rotors produced by Federal-Mogul and certified by Ford Motor Company are excluded from the scope of the order. See the January 17, 2007, Department memorandum entitled “Scope Ruling of the Antidumping Duty Order on Brake Rotors from the People's Republic of China; Federal-Mogul Corporation,” Notice of Scope Rulings, 72 FR 23802 (May 1, 2007).

Brake rotors are currently classifiable under subheadings 8708.39.5010, 8708.39.5030, and 8708.30.5030 of the Harmonized Tariff Schedule of the United States (“HTSUS”).³ Although the HTSUS subheadings are provided for convenience and customs purposes, the written description of the scope of this order is dispositive.

³ As of January 1, 2005, the HTSUS classification for brake rotors (discs) changed from 8708.39.5010 to 8708.39.5030. As of January 1, 2007, the HTSUS classification for brake rotors (discs) changed from 8708.39.5030 to 8708.30.5030. See Harmonized Tariff Schedule of the United States (2007) (Rev. 2), available at http://www.usitc.gov.

Revocation of Order

As a result of the determination by the ITC that revocation of this AD order would not be likely to lead to continuation or recurrence of material injury to an industry in the United States within a reasonably foreseeable time, pursuant to section 751(d) of the Act, the Department is revoking the AD order on brake rotors from the PRC. Pursuant to section 751(d)(3) of the Act and 19 CFR 351.222(i)(2)(i), the effective date of revocation is August 14, 2007 (i.e., the fifth anniversary of the date of publication in the Federal Register of the notice of continuation of this AD order).⁴ The Department will notify U.S. Customs and Border Protection to terminate suspension of liquidation and collection of cash deposits on entries of the subject merchandise entered or withdrawn from warehouse on or after August 14, 2007, the effective date of revocation of the AD order. The Department will complete any pending administrative reviews of this order and will conduct administrative reviews of subject merchandise entered prior to the effective date of revocation in response to appropriately filed requests for review.

⁴ See Continuation of Antidumping Duty Order: Brake Rotors from the People's Republic of China, 67 FR 52933 (August 14, 2002).

This five-year or “sunset” review and notice are in accordance with sections 751(c) and 751(d)(2) of the Act and published pursuant to section 777(i)(1) of the Act.

Dated: June 20, 2008.
Stephen J. Claeys,
Acting Assistant Secretary for Import Administration.

[FR Doc. E8-14421 Filed 6-24-08; 8:45 am]

BILLING CODE 3510-DS-P